DEPARTMENT OF THE INTERIOR

National Park Service

[NPS-WASO-NAGPRA-NPS0033436; PPWOCRADN0-PCU00RP14.R50000]

Notice of Intent To Repatriate Cultural Items: U.S. Department of the Interior, Bureau of Indian Affairs, Washington, DC, and Pueblo Grande Museum, City of Phoenix, AZ

AGENCY: National Park Service, Interior.

ACTION: Notice.

SUMMARY: The U.S. Department of the Interior, Bureau of Indian Affairs (BIA), Washington, DC, assisted by the Pueblo Grande Museum (PGM), in consultation with the appropriate Indian Tribes or Native Hawaiian organizations, have determined that the cultural items listed in this notice meet the definition of either unassociated funerary objects or sacred objects. Lineal descendants or representatives of any Indian Tribe or Native Hawaiian organization not identified in this notice that wish to claim these cultural items should submit a written request to the BIA through PGM. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the BIA through PGM at the address in this notice by March 30, 2022.

FOR FURTHER INFORMATION CONTACT: Lindsey Vogel-Teeter, Pueblo Grande Museum, 4619 E Washington Street, Phoenix, AZ 85034, telephone (602) 534-1572, email lindsey.vogel-teeter@phoenix.gov.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, and in the physical custody of the Pueblo Grande Museum, City of Phoenix, AZ, that meet the definition of either unassociated funerary objects or sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In December of 1939, 184 cultural items were removed from site AZ T:12:3(PGM)/AZ T:12:9(ASM)/SRVSS Site 6/Villa Buena, located within the boundaries of the Gila River Indian Reservation, Maricopa County, AZ. These items were excavated by personnel from the Salt River Valley Stratigraphic Survey (SRVSS), who were working out of PGM under a permit issued by the U.S. Department of the Interior. The cultural items, comprising 12 unassociated funerary objects and 172 sacred objects, have been housed at PGM since they were excavated. The 12 unassociated funerary items are one ceramic bowl, one ceramic disk, two ceramic jars, one lot of ceramic sherds, one grinding stone, three lots of shell beads, two shells, and one stone projectile point/drill. The 172 sacred objects are two ceramic censer fragments, three ceramic figurine fragments, one ceramic thick-walled vessel fragment, three crystal/quartz objects, seven worked faunal bones, 39 lots of shell beads, three shell bracelets, 37 lots of shell fragments, 48 shell ornaments, three shell tinklers, two stone mortars/stones with depression, two stone ornaments, one stone plummet, six stone rings, and 15 stone projectile points.

Site AZ T:12:3(PGM)/AZ T:12:9(ASM)/SRVSS Site 6/Villa Buena contained ballcourts, house mounds, and a compound. Based on ceramic types and architectural forms, the site was likely occupied during the Sweetwater through Civano phases of the Hohokam cultural sequence (A.D. 550-1450).

In October of 1939, 14 cultural items were removed from site AZ U:9:13(ASM)/AZ U:9:15(PGM)/SRVSS Site 23, located within the exterior boundaries of the Salt River Indian Reservation, Maricopa County, AZ. These items were excavated by personnel from the SRVSS, who were working out of PGM under a permit issued by the U.S. Department of the Interior. The cultural items have been housed at PGM since they were excavated. The 14 sacred objects are one ceramic figurine fragment, two shell bracelets, four shell ornaments, one stone canopas or medicine stone, three stone palettes, one stone ornament, one stone projectile point, and one worked stone.

Site AZ U:9:13(ASM)/AZ U:9:15(PGM)/SRVSS Site 23 contained nine trash mounds, multiple burials, and a canal. The material culture spanned the Estrella through Civano phases of the Hohokam cultural sequence (A.D. 450-1450).

In October of 1939, 24 cultural items were removed from site AZ U:9:16(PGM)/SRVSS Site 24, located within the exterior boundaries of the Salt River Indian Reservation, Maricopa County, AZ. These items were excavated by personnel from the SRVSS, who were working out of PGM under a permit issued by the U.S. Department of the Interior. The cultural items have been housed at PGM since they were excavated. The 24 sacred objects are 10 ceramic figurine fragments, eight ceramic bracelets, one shell ornament, four stone palettes, and one dog burial.

Site AZ U:9:16(PGM)/SRVSS Site 24 contained a compound, a house mound, 21 trash mounds, and a burial area. Based on architectural morphology and ceramic types, occupation spanned the Estrella through Civano phases of the Hohokam cultural sequence (A.D. 450-1450).

In 1939, one cultural item was removed from site AZ U:9:18(PGM)/SRVSS Site 26, located within the exterior boundaries of the Salt River Indian Reservation, Maricopa County, AZ. This item was excavated by personnel from the SRVSS, who were working out of PGM under a permit issued by the U.S. Department of the Interior. The cultural item has been housed at PGM since it was excavated. The one sacred object is a dog burial.

Site AZ U:9:18(PGM)/SRVSS Site 26 contained a compound, two trash mounds, a sherd area, and a burial area. Based on the material culture, occupation spanned the Sacaton through Civano phases of the Hohokam cultural sequence (A.D. 900-1450).

In June through August of 1939, 28 cultural items were removed from site AZ U:9:28(PGM)/SRVSS Site 62, located within the exterior boundaries of the Salt River Indian Reservation, Maricopa County, AZ. The items were excavated by personnel from the SRVSS, who were working out of PGM under a permit issued by the U.S. Department of the Interior. The cultural items have been housed at PGM since they were excavated. The 28 sacred objects are one ceramic censer fragment, one ceramic effigy vessel fragment, three ceramic figurine fragments, three worked faunal bones, one lot of shell beads, one shell bracelet, two lots of shell fragments, 12 shell ornaments, one stone mortar/stone with depression, one stone ring, and two dog burials.

Site AZ U:9:28(PGM)/SRVSS Site 62 contained house mounds, trash mounds, and possibly a ballcourt. Based on ceramic types, the site was likely occupied from the Santa Cruz through Sacaton phases of the Hohokam cultural sequence (A.D. 850-1150).

In May of 1939, one cultural item was removed from site AZ U:9:29(PGM)/SRVSS Site 63, located within the exterior boundaries of the Salt River Indian Reservation, Maricopa County, AZ. This item was excavated by personnel from the SRVSS, who were working out of PGM under a permit issued by the U.S. Department of the Interior. The cultural item has been housed at PGM since it was excavated. The sacred object is one lot of shell fragments.

Site AZ U:9:29(PGM)/SRVSS Site 63 contained a sherd area and a round house. Based on architectural morphology and ceramic types, occupation was likely associated with the Soho through Civano phases of the Hohokam cultural sequence (A.D. 1150-1450) and historic O'odham culture (A.D. 1800-1939).

In 1939, two cultural items were removed from site AZ Z:2:1(PGM)/SRVSS Site 69, located within the exterior boundaries of the Gila Bend Indian Reservation, Maricopa County, AZ. These items were excavated by personnel from the SRVSS, who were working out of PGM under a permit issued by the U.S. Department of the Interior. The cultural items have been housed at PGM since they were excavated. The two sacred objects are one lot of shell tinklers and one worked stone.

Site AZ Z:2:1(PGM)/SRVSS Site 69 contained a large sherd area. Based on ceramic types, occupation likely spanned the Gila Butte through Sacaton and Civano phases of the Hohokam cultural sequence (A.D. 750-1450).

In 1939, four cultural items were removed from site AZ T:16:1(PGM)/SRVSS Site 85, located within the exterior boundaries of the Gila River Indian Reservation, Maricopa County, AZ. These items were excavated by personnel from the SRVSS, who were working out of PGM under a permit issued the U.S. Department of the Interior. The cultural items have been housed at PGM since they were excavated. The four sacred objects are one shell bracelet, one lot of shell fragments, one worked faunal bone, and one worked stone.

Site AZ T:16:1(PGM)/SRVSS Site 85 contained round houses and ceramics associated with historic O'odham culture, and it was likely occupied during the years (A.D. 1700-1939).

In 1939, six cultural items were removed from site AZ T:16:8(ASM)/AZ T:16:2(PGM)/SRVSS Site 86, located within the exterior boundaries of the Gila River Indian Reservation, Maricopa County, AZ. These items were excavated by personnel from the SRVSS, who were working out of PGM under a permit issued by the U.S. Department of the Interior. The cultural items have been housed at PGM since they were excavated. The six sacred objects are one shell bracelet, two shell ornaments, one stone mortar/stone with depression, and two stone palettes.

Site AZ T:16:8(ASM)/AZ T:16:2(PGM)/SRVSS Site 86 contained ballcourts, trash mounds, and a cremation area associated with the Gila Butte through Sacaton phases of the Hohokam cultural sequence (A.D. 750-1150).

In October of 1939, 25 cultural items were removed from site AZ U:9:33(PGM)/SRVSS Site 90, located within the exterior boundaries of the Salt River Indian Reservation, Maricopa County, AZ. These items were excavated by personnel from the SRVSS, who were working out of PGM under a permit issued by the U.S. Department of the Interior. The cultural items, comprising three unassociated funerary objects and 22 sacred objects, have been housed at PGM since they were excavated. The three unassociated funerary objects are one axe/grinding stone, one hammerstone, and one polishing stone. The 22 sacred objects are two ceramic effigy vessel fragments, one ceramic figurine fragment, one ceramic spindle whorl fragment, three crystal/quartz objects, two worked faunal bones, two lots of shell beads, two shell bracelets, five lots of shell fragments, two shell ornaments, one stone projectile point, and one worked stone.

Site AZ U:9:33(PGM)/SRVSS Site 90 contained seven trash mounds, a house area, canals, and a cremation area. Based on architectural forms and ceramic types, occupation likely spanned the Gila Butte through Civano phases of the Hohokam cultural sequence (A.D. 750-1450).

In 1939, three cultural items were removed from site AZ U:13:2(PGM)SRVSS Site 92, located within the exterior boundaries of the Gila River Indian Reservation, Maricopa County, AZ. These items were excavated by personnel from the SRVSS, who were working out of PGM under a permit issued by the U.S. Department of the Interior. The cultural items have been housed at PGM since they were excavated. The three sacred objects are one shell bracelet, one lot of shell fragments, and one stone projectile point.

Site AZ U:13:2(PGM)SRVSS Site 92 contained a house mound and trash mound. Based on ceramic types and architectural forms, occupation likely spanned the Snaketown through Civano phases of the Hohokam cultural sequence (A.D. 600-1450).

In 1939, five cultural items were removed from site AZU:13:3(PGM)SRVSS Site 93, located within the exterior boundaries of the Gila River Indian Reservation, Maricopa County, AZ. These items were excavated by personnel from the SRVSS, who were working out of PGM under a permit issued by the U.S. Department of the Interior. The cultural items have been housed at PGM since they were excavated. The five sacred objects are two crystal/quartz objects, one shell bracelet, one lot of shell fragments, and one stone ring.

Site AZ U:13:3(PGM)SRVSS Site 93 contained house mounds and ramada areas. It has been described as an early historic Pima village. Based on the material culture and historic documents, the site was likely occupied during the years (A.D. 1700-1939).

In 1939, three cultural items were removed from site AZ U:14:2(PGM)/SRVSS Site 94, located within the exterior boundaries of the Gila River Indian Reservation, Maricopa County, AZ. These items were excavated by personnel from the SRVSS, who were working out of PGM under a permit issued by the U.S. Department of the Interior. The cultural items have been housed at PGM since they were excavated. The three sacred objects are one shell bracelet, one lot of shell fragments, and one worked stone.

Site AZ U:14:2(PGM)/SRVSS Site 94 contained a house mound associated with the Sacaton to Civano phases of the Hohokam cultural sequence (A.D. 900-1450).

In 1940, 33 cultural items were removed from site AZ U:9:35(PGM)/SRVSS Site 95, located within the exterior boundaries of the Gila River Indian Reservation, Maricopa County, AZ. These items were excavated by personnel from the SRVSS, who were working out of PGM under a permit issued by the U.S. Department of the Interior. The cultural items have been housed at PGM since they were excavated. The 33 sacred objects are seven ceramic figurine fragments, two ceramic thick-walled vessel fragments, two worked faunal bones, one shell bracelet, two lots of shell fragments, six shell ornaments, three stone mortars/stones with depression, two stone palettes, one stone plummet, six stone projectile points, and one worked stone.

Site AZ U:9:35(PGM)/SRVSS Site 95 contained eight trash mounds and cremation areas. Based on ceramic types, occupation likely spanned the Estrella through Civano phases of the Hohokam cultural sequence (A.D. 450-1450).

In 1940, one cultural item was removed from SRVSS Site 98, located within the exterior boundaries of the Gila River Indian Reservation, Maricopa County, AZ. This item was excavated by personnel from the SRVSS, who were working out of PGM under a permit issued by the U.S. Department of the Interior. The cultural item has been housed at PGM since it was excavated. The one sacred object is a shell bracelet.

SRVSS Site 98 contained a trash mound. Based on the material culture, occupation likely spanned the Gila Butte through Sacaton phases of the Hohokam cultural sequence (A.D. 750-1150).

In 1940, two cultural items were removed from SRVSS Site 99, located within the exterior boundaries of the Gila River Indian Reservation, Maricopa County, AZ. These items were excavated by personnel from the SRVSS, who were working out of PGM under a permit issued by the U.S. Department of the Interior. The cultural items have been housed at PGM since they were excavated. The sacred objects are two stone mortars/stones with depression in each of them.

SRVSS Site 99 contained a trash mound. Based on the material culture, occupation likely spanned the Santa Cruz to Sacaton phases of the Hohokam cultural sequence (A.D. 800-1150).

In 1940, three cultural items were removed from SRVSS Site 102, located within the exterior boundaries of the Gila River Indian Reservation, Maricopa County, AZ. These items were excavated by personnel from the SRVSS, who were working out of PGM under a permit issued by the U.S. Department of the Interior. The cultural items have been housed at PGM since they were excavated. The three sacred objects are two lots of shell fragments and one shell tinkler.

SRVSS Site 102 contained three trash mounds. Based on the material culture, occupation likely spanned the Snaketown through Civano phases of the Hohokam cultural sequence (A.D. 600-1450).

In 1940, one cultural item was removed from SRVSS Site 103, located within the exterior boundaries of the Gila River Indian Reservation, Maricopa County, AZ. This item was excavated by personnel from the SRVSS, who were working out of PGM under a permit issued by the U.S. Department of the Interior. The cultural item has been housed at PGM since it was excavated. The sacred object is a shell bracelet.

SRVSS Site 103 contained a trash mound. Based on the material culture, occupation likely spanned the Snaketown through Sacaton phases of the Hohokam cultural sequence (A.D. 600-1150).

In 1940, two cultural items were removed from SRVSS Site 104, located within the exterior boundaries of the Gila River Indian Reservation, Maricopa County, AZ. These items were excavated by personnel from the SRVSS, who were working out of PGM under a permit issued by the U.S. Department of the Interior. The cultural items have been housed at PGM since they were excavated. The two sacred objects are one ceramic effigy vessel fragment and one worked stone.

SRVSS Site 104 contained a trash mound. Based on the material culture, occupation likely spanned the Santa Cruz through Soho phases of the Hohokam cultural sequence (A.D. 800-1300).

In 1940, two cultural items were removed from SRVSS Site 105, located within the exterior boundaries of the Gila River Indian Reservation, Maricopa County, AZ. These items were excavated by personnel from the SRVSS, who were working out of PGM under a permit issued by the U.S. Department of the Interior. The cultural items have been housed at PGM since they were excavated. The two sacred objects are one shell ornament and one stone projectile point.

SRVSS Site 105 contained a trash mound. Based on the material culture, occupation likely spanned the Santa Cruz through Civano phases of the Hohokam cultural sequence (A.D. 800-1450).

In 1963, one cultural item was removed by an unidentified person from the “Snaketown area,” most likely site AZ U:13:1(ASM), located within the exterior boundaries of the Gila River Indian Reservation, Maricopa County, AZ. The item was transferred to PGM sometime prior to 1995. The one unassociated funerary object is a ceramic bowl.

Site AZ U:13:1(ASM) was a large village containing canals, plazas, ballcourts, house groups, and a caliche-capped mound. Based on ceramic types, architectural forms, and other material culture attributes, the site was likely occupied from the Snaketown through Sacaton phases of the Hohokam cultural sequence (A.D. 600-1150).

The Ak-Chin Indian Community [previously listed as Ak Chin Indian Community of the Maricopa (Ak Chin) Indian Reservation, Arizona]; Gila River Indian Community of the Gila River Indian Reservation, Arizona; Salt River Pima-Maricopa Indian Community of the Salt River Reservation, Arizona; and the Tohono O'odham Nation of Arizona comprise a single cultural group known as the O'odham. Cultural continuity between the prehistoric Hohokam archeological culture and present-day O'odham people is supported by continuities in settlement pattern, architectural technologies, basketry, textiles, ceramic technology, and ritual practices. Oral traditions that are documented for the Ak-Chin Indian Community [previously listed as Ak Chin Indian Community of the Maricopa (Ak Chin) Indian Reservation, Arizona]; Gila River Indian Community of the Gila River Indian Reservation, Arizona; Salt River Pima-Maricopa Indian Community of the Salt River Reservation, Arizona; and the Tohono O'odham Nation of Arizona—hereafter referred to as “The Tribes”—also support the cultural affiliation of these present-day Indian Tribes with Hohokam archeological sites and historical O'odham villages in central and southern Arizona.

A review of archeological field notes and reports shows that the cultural items listed in this notice as unassociated funerary objects were placed with individual human remains at the time of burial. During consultations, representatives of the Gila River Indian Community of the Gila River Indian Reservation, Arizona, and the Salt River Pima-Maricopa Indian Community of the Salt River Reservation, Arizona shared the information that intentionally buried canid remains are considered sacred because they are imbued with human spirit. Traditional knowledge relates that these animals communicate with humans during curing ceremonies and in other ways, and reinforces the belief that this role makes them sacred objects. The tribal consultants also affirmed that the other cultural items listed in this notice as sacred objects are specific ceremonial objects utilized in traditional religious practices.

Determinations Made by the U.S. Department of the Interior, Bureau of Indian Affairs, Joined by the Pueblo Grande Museum

Officials of the U.S. Department of the Interior, Bureau of Indian Affairs, joined by the Pueblo Grande Museum have determined that:

• Pursuant to 25 U.S.C. 3001(3)(B), 16 of the cultural items described above are reasonably believed to have been placed with or near individual human remains at the time of death or later as part of the death rite or ceremony and are believed, by a preponderance of the evidence, to have been removed from the specific burial sites of Native American individuals.

• Pursuant to 25 U.S.C. 3001(3)(C), 329 of the cultural items described above are specific ceremonial objects needed by traditional Native American religious leaders for the practice of traditional Native American religions by their present-day adherents.

• Pursuant to 25 U.S.C. 3001(2), there is a relationship of shared group identity that can be reasonably traced between the unassociated funerary objects and sacred objects and The Tribes.

Additional Requestors and Disposition

Lineal descendants or representatives of any Indian Tribe or Native Hawaiian organization not identified in this notice that wish to claim these cultural items should submit a written request with information in support of the claim to Lindsey Vogel-Teeter, Pueblo Grande Museum, 4619 E Washington Street, Phoenix, AZ 85034, telephone (602) 534-1572, email lindsey.vogel-teeter@phoenix.gov, by March 30, 2022. After that date, if no additional claimants have come forward, transfer of control of the unassociated funerary objects and sacred objects to The Tribes may proceed.

The U.S. Department of the Interior, Bureau of Indian Affairs, assisted by the Pueblo Grande Museum, is responsible for notifying The Tribes that this notice has been published.

Dated: February 16, 2022.
Melanie O'Brien,
Manager, National NAGPRA Program.

[FR Doc. 2022-04109 Filed 2-25-22; 8:45 am]

BILLING CODE 4312-52-P